DEPARTMENT OF LABOR

Mine Safety and Health Administration

30 CFR Parts 18 and 75

RIN 1219-AB34 and RIN 1219-AA98

High-Voltage Continuous Mining Machines and Low- and Medium-Voltage Diesel-Powered Electrical Generators

AGENCY: Mine Safety and Health Administration (MSHA), Labor.

ACTION: Change of hearing dates and locations; close of comment periods.

SUMMARY: This document announces changes in the dates and locations of the public hearings for the proposed rules addressing (1) High-Voltage Continuous Mining Machines; and (2) Low- and Medium-Voltage Diesel Powered Electrical Generators. The hearings for both proposed rules have been rescheduled for November 2004. The hearings in Pittsburgh, Pennsylvania have been moved to Morgantown, West Virginia.

The hearings for the High-Voltage Continuous Mining Machines (HVCM) proposed rule will be held first, starting at 9 a.m. local time each day; and the hearings for the proposed rule for Low- and Medium-Voltage Diesel Powered Electrical Generators will follow.

DATES: The post-hearing comment period for both proposed rules will close on December 10, 2004.

The public hearing dates and locations are listed in the Public Hearing Section under SUPPLEMENTARY INFORMATION below. Individuals or organizations wishing to make oral presentations for the record should submit a request at least 5 days prior to the hearing dates. However, commenters do not need to submit a request in advance in order to speak at the hearing.

ADDRESSES: You may submit comments, by any of the following methods:

• Federal eRulemaking Portal: http://www.regulations.gov. Follow the instructions for submitting comments.

• E-mail: Comments@MSHA.gov. You must include the Regulatory Identification Number (RIN) in the subject line for each rule you are commenting on. For comments on the proposed rule addressing Low- and Medium-Voltage Diesel Powered Electrical Generators include RIN 1219-AA98 in the subject line of the message. To submit comments for the proposed rule addressing High-Voltage Continuous Mining Machines include RIN 1219-AB34 in the subject line.

• Fax: (202) 693-9441.

• Mail/Hand Delivery/Courier: MSHA, Office of Standards, Regulations, and Variances, 1100 Wilson Blvd., Room 2313, Arlington, Virginia 22209-3939.

Instructions: All submissions must reference MSHA and RIN numbers 1219-AA98 for the proposed rule addressing Low—and Medium-Voltage Diesel Powered Electrical Generators or RIN 1219-AB34 for the proposed rule addressing High-Voltage Continuous Mining Machines.

Docket: To access comments received, go to http://www.MSHA.gov or MSHA, Office of Standards, Regulations, and Variances, 1100 Wilson Blvd., Room 2350, Arlington, Virginia. All comments received will be posted without change to http://www.msha.gov, including any personal information provided.

FOR FURTHER INFORMATION CONTACT: Marvin W. Nichols, Jr., Director, Office of Standards, Regulations, and Variances, MSHA, 1100 Wilson Boulevard, Room 2350, Arlington, Virginia 22209-3939. Mr. Nichols can be reached at nichols.marvin@dol.gov (Internet E-mail), (202) 693-9440 (voice), or (202) 693-9441 (facsimile). This notice is available on the Internet at http://www.msha.gov/REGSINFO.HTM.

SUPPLEMENTARY INFORMATION:

I. Proposed Rule for High-Voltage Continuous Mining Machines

On July 16, 2004 we published a proposed rule in the Federal Register (69 FR 42812) addressing design requirements for approval of high-voltage continuous mining machines operating in face areas of underground mines. The rule also proposed to establish new mandatory electrical safety standards for the installation, use, and maintenance of high-voltage continuous mining machines used in underground coal mines. The provisions would enable mines to safely utilize high-voltage continuous mining machines with enhanced safety protection from fire, explosion, and shock hazards without the need for mine operators to file petitions for modification to use high-voltage continuous mining machines.

Also in that notice we announced that four public hearings would be held in September 2004. The post-hearing comment period was scheduled to close on October 14, 2004.

II. Proposed Rule for Low- and Medium-Voltage Diesel Powered Electrical Generators

On June 25, 2004, we published a proposed rule in the Federal Register, (69 FR 35992), amending low- and medium-voltage three-phase circuits used underground. It would allow the use of low- and medium-voltage diesel-powered electrical generators as an alternative means of powering electrical equipment. The generators are portable and are used to power electrical equipment when moving the equipment in, out, and around the mine and when performing work in areas where permissible equipment is not required. The proposed rule would eliminate the need for mine operators to file petitions for modification to use these generators to power electrical equipment while maintaining the existing level of protection for miners.

On July 26, 2004, we published a notice in the Federal Register, (69 FR 44480), announcing the dates and locations of four public hearings. The hearings were scheduled to be held on the same days and in the same locations as the hearings for the HVCM proposed rule. The post-hearing comment period was scheduled to close on October 14, 2004.

III. Public Hearings

Since announcement of the public hearings for both rules, we have changed the dates and locations of the hearings. We will still hold four public hearings for both proposed rules; however, the hearings will be held in November, 2004 instead of September, 2004. The hearings addressing HVCM will begin at 9 a.m. local time each day; the hearings addressing Low- and Medium-Voltage Diesel Powered Electrical Generators will be held on the same days, beginning at 1 p.m. local time and will end after the last speaker testifies. The hearings will be held on the following dates at the locations indicated:

Date | Location | Telephone
November 4, 2004 | Little America Hotel, 500 S Main Street, Salt Lake City, Utah 84101 | (801) 363-6781
November 16, 2004 | Sheraton Birmingham, 2101 Richard Arrington Jr. Blvd. North, Birmingham, Alabama 35203 | (205) 324-5000
November 18, 2004 | Sheraton Suites Lexington, 2601 Richmond Road, Lexington, Kentucky 40509 | (859) 268-0060
November 30, 2004 | Radisson Hotel at Waterfront Place, 2 Waterfront Place, Morgantown, West Virginia 26501 | (304) 296-1700

If individuals or organizations wish to make an oral presentation, we ask that you submit your request at least 5 days prior to the hearing dates. You do not have to make a written request to speak; however, the speakers who make a request in advance will speak first. Any unallotted time will be made available for persons making same-day requests. These commenters will speak in the order they sign in.

The hearings will begin with an opening statement from MSHA, followed by an opportunity for members of the public to make oral presentations to a panel. At the discretion of the presiding official, the time allocated to speakers for their presentation may be limited. Speakers and other attendees may also present information to the MSHA panel for inclusion in the rulemaking record.

The hearings will be conducted in an informal manner. The hearing panel may ask questions of speakers. Although formal rules of evidence or cross examination will not apply, the presiding official may exercise discretion to ensure the orderly progress of the hearing and may exclude irrelevant or unduly repetitious material and questions.

A verbatim transcript of the proceedings will be included in the rulemaking record. Copies of this transcript will be available to the public, and can be viewed at http://www.msha.gov.

IV. Close of Comment Periods

We will accept post-hearing written comments and other appropriate data for the record from any interested party, including those not presenting oral statements, prior to the close of the December 10, 2004 post-hearing comment periods.

Dated: August 17, 2004.
Dave D. Lauriski,
Assistant Secretary for Mine Safety and Health.

[FR Doc. 04-19190 Filed 8-20-04; 8:45 am]

BILLING CODE 4510-42-P